FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC. 20573.

Non-Vessel—Operating Common Carrier Ocean Transportation Intermediary Applicants:

Herbie & Son's Brokers & Shipping Int. Co., 6660 Sunset Strip, Unit #4, Sunrise, FL 33313. Officer: Victor Thomas, President (Qualifying Individual).

Aerocosta Global Systems, Inc., 189-33 46 Road 1 FL, Flushing, NY 11358. Officers: Hyun Joon Chung, President (Qualifying Individual).

DLR International, Foster Avenue Industrial Park 822 Foster Avenue, Bensenville, IL 60606. Officer: Danna Rozehnal, President (Qualifying Individual).

Aqualine International, Inc., 17326 Edwards Road, Suite A207, Cerritos, CA 90703-2465. Officers: Makiko Yamamoto Nomoto, President (Qualifying Individual), Lo Hung Tien, Director.

Platinum Ocean Logistics, Inc., 2285 Michael Faraday Drive, Suite 13, San Diego, CA 92154. Officers: Jeffrey Wobbrock, President (Qualifying Individual).

Trust Moving, Marketing & Logistics, Inc. dba TMM, Logistics, 3533 NW 58th Street, Miami, FL 33142. Officers: Jose Tarcisio De Oliveira, President (Qualifying Individual), Milton Cursage, Vice President.

Sallaum Group SA, 47371 Darkhollow Falls, Sterling, VA 20165. Officers: Ghassan Sakallah, Vice President (Qualifying Individual), Ibrahim Sallaum, President.

Global Advantage ALS, 161-18 59 Avenue, Fresh Meadows, NY 11365. Officer: Yichun Xu, President (Qualifying Individual).

Lloyds Global Logistics, Inc. dba Lloyds Cargo, 615 N. Street, Suite #303, El Segundo, CA 90245. Officers: Uwe Steuernagel, Treasurer/CFO (Qualifying Individual), Renee Maser, President.

IQ Global Logistics Corp, 22580 Glenn Drive, Suite 10, Sterling, VA 20164. Officers: Kirk Michael Weibel, President (Qualifying Individual).

Non-Vessel—Operating Common Carrier and Ocean Freight Forwarder Transportation Intermediary Applicants:

Stonepath Logistics Domestic Services, Inc., 1150 Gateway Drive, Shakopee, MN 55379. Officers: Charles R. Cain, Vice President (Qualifying Individual), Dennis L. Pelino, Chairman.

Stonepath Logistics Government Services, Inc., 45070 Old Ox Road, Suite 100, Sterling, VA 20166. Officers: Charles R. Cain, Chief Operating Officer (Qualifying Individual), Robert Arovas, President.

RCB Logistics Corp., 67 West Merrick Road, Valley Stream, NY 11580. Officers: Salvatore DiStefano, President (Qualifying Individual), Vincenzo Matranga, Vice President.

Global Transportation Management, LLC dba GTM-Global Transportation Management, LLC, 35790 Northline Road, Suite C, Romulus, MI 4817. Officer: Mark Brodie, Managing Member (Qualifying Individual).

Midwest Motor Express, Inc. dba MME Global Lines, 314 North 27th Street, Fargo, ND 58102. Officers: Ronald I. Martin, Dir. Of Int'l. Logistics (Qualifying Individual), Martin Kling, President.

Trans-Alliance International Forwarding Co., Inc. dba Nova Ocean Line, 310 Cedar Lane, Third Floor, Teaneck, NJ 07666. Officers: Enrique Vera, President (Qualifying Individual), Olga Vera, Secretary.

Express Cargo USA LLC, 1675 York Avenue, Suite 31-B, New York, NY 10128. Officer: Ami Steinfeld, President (Qualifying Individual).

Intercontinental Forwarding USA, Corp. dba ICF USA, 3671 NW 81 Street, Miami, FL 33147. Officers: Byron Baez, Vice President (Qualifying Individual), Geovanny Coellar N., President

Aerostar Global Logistics, Inc., 824 S. Kay Avenue, Addison, IL 60101. Officer: Anthony Flacchino, President (Qualifying Individual).

Priority Freight Corp., 377 Oyster Point Blvd., Unit #14, So. San Francisco, CA 94080. Officer: Bernard Liu, President (Qualifying Individual).

Damca International, LLC, 9600 NW 25th Street, Suite 6B, Miami, FL 33172. Officers: Nils Ekman, President (Qualifying Individual), Nelson Montilla, Vice President

Ocean Freight Forwarder—Ocean Transportation Intermediary Applicants:

Denizabel Shipping, Inc., 6903 W. 36 Avenue, Suite No. 2, Hialeah, FL 33018. Officers: Isabel Ramirez, Vice President (Qualifying Individual), Denizabel Ramirez, President.

Jumar International Corp., 1890 NW 82nd Avenue, Suite 103, Miami, FL 33126. Officers: Marlen Estevez, Vice President (Qualifying Individual), Juan E. Estevez, President.

Toptrans USA Inc., 777 E. Valley Blvd., Apt. #4, Alhambra, CA 91801. Officer: Fu-Chiu (Fred) Chou, President (Qualifying Individual).

Dated: November 17, 2006.
Bryant L. VanBrakle,
Secretary.

[FR Doc. E6-19776 Filed 11-21-06; 8:45 am]

BILLING CODE 6730-01-P